ENVIRONMENTAL PROTECTION AGENCY

[EPA-HQ-OAR-2002-0091, FRL-8018-2]

Agency Information Collection Activities: Proposed Collection; Comment Request; Ambient Air Quality Surveillance, EPA ICR Number 0940-18, OMB Control Number 2060-0084

Correction

In notice document E5-8269 beginning on page 333 in the issue of Wednesday, January 4, 2006, make the following correction:

On page 333, in the first column, under the DATES heading, in the second line, “February 3, 2006” should read “March 6, 2006”.

[FR Doc. Z5-8269 Filed 1-10-06; 8:45 am]

BILLING CODE 1505-01-D